DEPARTMENT OF THE INTERIOR

Bureau of Land Management

[ID-300-1020-PH]

Notice of Public Meetings, Idaho Falls District Resource Advisory Council OHV Subgroup Meeting

AGENCY: Bureau of Land Management, Interior.

ACTION: Notice of public meetings.

SUMMARY: In accordance with the Federal Land Policy and Management Act (FLPMA) and the Federal Advisory Committee Act of 1972 (FACA), the U.S. Department of the Interior, Bureau of Land Management (BLM) Idaho Falls District Resource Advisory Council (RAC), will meet as indicated below.

DATES: Two meetings have been scheduled in October 2006. Both meetings will be listening sessions hosted by the Off-Highway Vehicle Subcommittee of the RAC. The first meeting will be held October 3, 2006 at the May Fire Hall on Main Street in May, Idaho. The second meeting will be held October 4, 2006 at the Mackay High School Library, located on Spruce Street, just two blocks of U.S. Highway 93 in Mackay, Idaho. Both meetings will be held from 7 to 9 p.m.

SUPPLEMENTARY INFORMATION: The purpose of the meeting is for the RAC Subgroup to gather public input and make recommendations to the full RAC. The adopted recommendations will be forwarded to the BLM Challis Field Office as it prepares its comprehensive Travel Management Plan. The public is encouraged to attend. All meetings are open to the public. The public may also present written comments to Council members.

FOR FURTHER INFORMATION CONTACT: David Howell, RAC Coordinator, Idaho Falls District, 1405 Hollipark Dr., Idaho Falls, ID 83401. Telephone (208) 524-7559. E-mail: David_Howell@blm.gov.

Dated: September 8, 2006.
David Howell,
RAC Coordinator, Public Affairs Specialist.

[FR Doc. E6-15234 Filed 9-13-06; 8:45 am]

BILLING CODE 4310-GG-P